FEDERAL COMMUNICATIONS COMMISSION

[CC Docket No. 94-102; DA 01-886]

Request for Clarification or Declaratory Ruling Concerning PSAP Requests for Phase II Enhanced 911, Comments Invited

AGENCY: Federal Communications Commission.

ACTION: Solicitation of comments.

SUMMARY: The Federal Communications Commission seeks comment on a petition filed April 5, 2001, by the City of Richardson, Texas (Richardson), in CC Docket No. 94-102, seeking clarification and/or a declaratory ruling concerning the process by which a Public Safety Answering Point (PSAP) requests Phase II enhanced 911 (E911) service from a wireless carrier. Specifically, Richardson seeks confirmation that a PSAP makes a valid request for Phase II E911 service by informing the carrier that the necessary equipment upgrades for Phase II service will be finalized prior to the delivery of the service by the carrier and by having an adequate cost recovery mechanism in place to bring its equipment to the level necessary to receive Phase II data. Richardson asserts that a carrier receiving such a request is required to deliver Phase II service within six months after receiving such a request or by October 1, 2001, whichever is later, so that the service is available to the PSAP when its equipment upgrades are completed. Parties interested in filing comments on Richardson's petition may do so on or before April 23, 2001. Reply Comments are due on or before May 3, 2001. All comments shall reference the docket number of this proceeding (CC Docket No. 94-102). Comments may be filed using the Commission's Electronic Comment Filing System (ECFS) or by filing paper copies. Comments filed through ECFS can be sent as an electronic file via the Internet to http//www.fcc.gov/e-file/ecfs.hmtl. In completing the transmittal screen, commenters should include their full name, postal service mailing address, and the docket number of this proceeding. Parties who choose to file by paper must file an original and four copies of each filing with the Commission's Secretary (Magalie Roman Salas, Office of the Secretary, Federal Communications Commission, 445 12th Street, SW., Washington, DC 20554) and a diskette copy to the Commission's copy contractor (International Transcription Service, Inc., CY-B400, Federal Communications Commission, 445 12th Street, SW., Washington, DC 20554). In addition, parties should submit one copy to Wendy Austrie, Policy Division, Wireless Telecommunications Bureau, Federal Communications Commission, same address. Filings and comments are available for inspection and copying in the Reference Information Center in Room CY-A257 at the Commission, or may be purchased from the International Transcription Service, Inc.

DATES: Comments are due on or before April 23, 2001, and reply comments are due on or before May 3, 2001.

ADDRESSES: Federal Communications Commission, 445 12th Street, SW., Washington, DC 20554.

FOR FURTHER INFORMATION CONTACT: Wendy Austrie, 202-418-1310.

Federal Communications Commission.
Janet Sievert,
Acting Chief, Policy Division, Wireless Telecommunications Bureau.

[FR Doc. 01-9469 Filed 4-16-01; 8:45 am]

BILLING CODE 6712-01-P